DEPARTMENT OF THE TREASURY

Internal Revenue Service

26 CFR Part 1

[TD 9369]

RIN 1545-BG40

Calculating and Apportioning the Section 11(b)(1) Additional Tax Under Section 1561 for Controlled Groups; Correction

AGENCY: Internal Revenue Service (IRS), Treasury.

ACTION: Correcting amendment.

SUMMARY: This document contains a correction to temporary regulations (TD 9369) that were published in the Federal Register on Wednesday, December 26, 2007 (72 FR 72929) affecting component members of a controlled group of corporations and consolidated groups filing life-nonlife Federal income tax returns. These regulations provide guidance for calculating and apportioning between component members any amount of additional tax and any reduction in the amount exempted from the alternative minimum tax.

DATES: The correction is effective January 28, 2008.

FOR FURTHER INFORMATION CONTACT: Grid Glyer, (202) 622-7930 (not a toll-free number).

SUPPLEMENTARY INFORMATION:

Background

The temporary regulations (TD 9369) that are the subject of the correction are under sections 11, 55, 1502, 1561 and 1563 of the Internal Revenue Code.

Need for Correction

As published, temporary regulations (TD 9369) contain an error that may prove to be misleading and is in need of clarification.

List of Subjects in 26 CFR Part 1

Income taxes, Reporting and recordkeeping requirements.

Correction of Publication

Accordingly, 26 CFR part 1 is corrected by making the following amendment:

PART 1—INCOME TAXES

Paragraph 1. The authority citation for part 1 continues to read, in part, as follows:

Authority: 26 U.S.C. 7805 * * *

Par. 2. Section 1.1561-2T is amended by revising paragraph (b)(1) to read as follows:

§ 1.1561-2T Special rules for allocating reductions to certain section 1561(a) tax-benefit items (temporary).

* * * * *

(b) * * *

(1) Calculation. The alternative minimum taxable incomes for all the taxable years of the component members of a controlled group of corporations subjected to the same December 31st testing date shall be taken into account in calculating the reduction set forth in section 55(d)(3) to the amount exempted from the alternative minimum tax (the exemption amount).

* * * * *

LaNita Van Dyke,
Chief, Publications and Regulations Branch,Legal Processing Division,Associate Chief Counsel,(Procedure and Administration).

[FR Doc. E8-1367 Filed 1-25-08; 8:45 am]

BILLING CODE 4830-01-P